DEPARTMENT OF ENERGY

Federal Energy Regulatory Commission

[Project No. 2618-032]

Woodland Pulp, LLC; Notice of Application Accepted for Filing, Soliciting Comments, Motions To Intervene, and Protests

Take notice that the following hydroelectric application has been filed with the Federal Energy Regulatory Commission and is available for public inspection:

a. Type of Application: American Eel Study Plan and Proposed Design Plans for American Eel Passage (both under P-2618-032).

b. Project No: 2618-032.

c. Date Filed: September 26, 2017.

d. Applicant: Woodland Pulp, LLC (licensee).

e. Name of Project: West Branch Hydroelectric Project.

f. Location: The project is located on the West Branch of the St. Croix River in Washington County, Maine.

g. Filed Pursuant to: Federal Power Act, 16 U.S.C. 791a-825r.

h. Applicant Contact: C. Scott Beal, Woodland Pulp, LLC, 144 Main Street, Baileyville, ME 04619.

i. FERC Contact: Michael Calloway at 202-502-8041, or michael.calloway@ferc.gov.

j. Deadline for filing comments, motions to intervene, and protests is 45 days from the issuance of this notice by the Commission. The Commission strongly encourages electronic filing. Please file motions to intervene, protests, and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2618-032.

k. Description of Request: The licensee filed an American Eel Migration Study Plan and Proposed Design Plans for American Eel Passage pursuant to Article 401 of the project license and U.S. Fish and Wildlife and Service Fishway Prescription Nos. a(ii), b(ii), a(iii), and b(vii) contained in Appendix A of the license. Both proposals only address American eel passage and effectiveness evaluation at the project's West Branch development; these proposals do not address passage and evaluation at the Sysladobsis development—because of the licensee's pending amendment application (filed January 31, 2017) to remove the Sysladobsis development from the project license. The Proposed Design Plans for American Eel Passage provides a draft design for eel passage, but proposes to suspend passage until after the eel migration studies provide data to inform the design and siting of the eel passage measure. The American Eel Migration Study Plan provides a plan to evaluate eel abundance at various locations, inform design of eel passage facilities, and evaluate effectiveness of the facilities for up to 3 years.

l. Locations of the Application: A copy of the application is available for inspection and reproduction at the Commission's Public Reference Room, located at 888 First Street NE, Room 2A, Washington, DC 20426, or by calling 202-502-8371. This filing may also be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS; PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the American Eel Migration Study Plan and the Final Design Plans for American Eel Passage. Agencies may obtain copies of plans directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 15, 2018.
Kimberly D. Bose,
Secretary.

[FR Doc. 2018-13365 Filed 6-21-18; 8:45 am]

BILLING CODE 6717-01-P